DEPARTMENT OF LABOR

Employment and Training Administration

[TA-W-70,801]

Tolleson Lumber Co., Inc., Preston, GA; Notice of Termination of Investigation

In accordance with Section 221 of the Trade Act of 1974, as amended, an investigation was initiated on May 28, 2009 in response to a petition filed by a company official on behalf of workers of Tolleson Lumber Co., Inc., Preston, Georgia.

The petitioner has requested that the petition be withdrawn. Consequently, the investigation has been terminated.

Signed in Washington, DC, this 27th day of July 2009.
Richard Church,
Certifying Officer, Division of Trade Adjustment Assistance.

[FR Doc. E9-20451 Filed 8-25-09; 8:45 am]

BILLING CODE 4510-FN-P